DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 26, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Generic Clearance for Stakeholder Feedback and Surveys as Part of FNS Planning: Regulatory Actions, Semi-annual Regulatory Agenda, Program Changes, Research Studies, Outreach, Training and/or Development of Guidance.

OMB Control Number: 0584-NEW.

Summary of Collection: The proposed information collection provides a means to garner qualitative and quantitative stakeholder feedback, feedback from state, local and/or Tribal agencies and implementers, feedback from program participants, and existing administrative data, in an efficient and timely manner.

Need And Use of the Information: This collection allows for ongoing, two-way collaborative and actionable communications between the Agency and its state, local and/or Tribal partners, program participants, and stakeholders. It also allows feedback to contribute directly to the improvement and planning of research studies, program changes, regulatory activities, guidance, outreach and/or training activities. As individual collections occur under this generic umbrella, consideration will be given to the appropriate data sharing, equity issues and transparency per collection.

Description of Respondents: Individuals and Households, Businesses and Organizations, State, Local or Tribal Government.

Number of Respondents: 40,575.

Frequency of Responses: Reporting: On Occasion.

Total Burden Hours: 43,360.

Levi S. Harrell,
Departmental Information Collection Clearance Officer.

[FR Doc. 2023-25932 Filed 11-22-23; 8:45 am]

BILLING CODE 3410-30-P